DEPARTMENT OF LABOR

Occupational Safety and Health Administration

[Docket No. OSHA-2013-0013]

Federal Advisory Council on Occupational Safety and Health

AGENCY: Occupational Safety and Health Administration (OSHA), Labor.

ACTION: Request for nominations to serve on the Federal Advisory Council on Occupational Safety and Health (FACOSH).

SUMMARY: The Assistant Secretary of Labor for Occupational Safety and Health invites interested individuals to submit nominations for membership on FACOSH.

DATES: Nominations for FACOSH must be submitted (postmarked, sent, transmitted, or received) by November 5, 2013.

ADDRESSES: You may submit nominations and supporting materials using one of the following methods:

Electronically: You may submit nominations, including attachments, electronically at http://www.regulations.gov, the federal eRulemaking portal. Follow the online instructions for submitting nominations;

Facsimile: If your nominations and supporting materials and attachments do not exceed 10 pages, you may FAX them to the OSHA Docket Office at (202) 693-1648;

Mail, express delivery, hand delivery, messenger or courier service: You may send nominations and supporting materials to the OSHA Docket Office, Docket No. OSHA-2013-0013, Room N-2625, U.S. Department of Labor, 200 Constitution Avenue NW., Washington, DC 20210; telephone (202) 693-2350 (TTY number (877) 889-5627). Deliveries by hand, express mail, messenger, and courier service are accepted during the Department of Labor's and OSHA Docket Office's normal business hours, 8:15 a.m.-4:45 p.m., E.S.T.

Instructions: Your submissions and supporting materials must include the agency name and docket number for this Federal Register notice (OSHA-2013-0013). Due to security-related procedures, submissions by regular mail may experience significant delays. Please contact the OSHA Docket Office for information about special security procedures for submitting nominations and supporting materials. For additional information on submitting nominations and supporting materials, see the SUPPLEMENTARY INFORMATION section of this notice.

OSHA will post all submissions, including any personal information you provide, without change on http://www.regulations.gov. Therefore, OSHA cautions you about submitting personal information such as Social Security numbers and birthdates.

To read or download submissions in response to this Federal Register notice, go to Docket No. OSHA-2013-0013 at http://www.regulations.gov. All documents in the docket are listed in the index of that Web site; however, some documents (e.g., copyrighted) are not publicly available to read or download from that Web site. All submissions, including copyrighted material, are available for inspection and copying at the OSHA Docket Office.

For Additional Information

For press inquiries: Mr. Francis Meilinger, OSHA, Office of Communications, Room N-3647, U.S. Department of Labor, 200 Constitution Avenue NW., Washington, DC 20210; telephone (202) 693-1999; email meilinger.francis2@dol.gov.

For general information: Mr. Francis Yebesi, OSHA, Office of Federal Agency Programs, Directorate of Enforcement Programs, Room N-3622, U.S. Department of Labor, 200 Constitution Avenue NW., Washington, DC 20210; telephone (202) 693-2122; email ofap@dol.gov.

SUPPLEMENTARY INFORMATION: The Assistant Secretary of OSHA invites interested individuals to submit nominations for membership on FACOSH.

Background. FACOSH is authorized to advise the Secretary of Labor (Secretary) on all matters relating to the occupational safety and health of federal employees (Occupational Safety and Health Act of 1970 (29 U.S.C. 668), 5 U.S.C. 7902, Executive Orders 12196 and 13511). This includes providing advice on how to reduce and keep to a minimum the number of injuries and illnesses in the federal workforce, and how to encourage the establishment and maintenance of effective occupational safety and health programs in each federal agency.

FACOSH membership. FACOSH is comprised of 16 members, who the Secretary appoints to staggered terms not to exceed 3 years. OSHA is seeking nominations to fill five positions on FACOSH that will become vacant on January 1, 2014.

The categories of FACOSH membership and the number of new members to be appointed to three-year terms include:

• Eight members who are federal agency management representatives—Two management representatives will be appointed.

• Eight members who are representatives of labor organizations that represent federal employees—Three federal employee representatives will be appointed.

FACOSH members serve at the pleasure of the Secretary and the Secretary may appoint FACOSH members to successive terms. FACOSH meets at least two times a year.

The Department of Labor is committed to equal opportunity in the workplace and seeks broad-based and diverse FACOSH membership. Any interested federal agency, labor organization, or individual(s) may nominate one or more qualified persons for membership on FACOSH. Interested individuals also are invited and encouraged to submit statements in support of particular nominees.

Nomination requirements. Submission of nominations must include the following information:

1. The nominee's name, contact information and current occupation or position;

2. The nominee's resume or curriculum vitae, including prior membership on FACOSH and other relevant organizations, associations and committees;

3. Category of membership (management, labor) the nominee is qualified to represent;

4. A summary of the nominee's background, experience and qualifications that address the nominee's suitability to serve on FACOSH;

5. Articles or other documents the nominee has authored that indicate the nominee's knowledge, experience and expertise in occupational safety and health, particularly as it pertains to the federal workforce; and

6. A statement that the nominee is aware of the nomination, is willing to regularly attend and participate in FACOSH meetings, and has no apparent conflicts of interest that would preclude membership on FACOSH.

Member selection. The Secretary appoints FACOSH members based upon criteria that include the nominee's level of responsibility for occupational safety and health matters involving the federal workforce; experience and competence in occupational safety and health; and willingness and ability to regularly and fully participate in FACOSH meetings. Federal agency management nominees who serve as their agency's Designated Agency Safety and Health Official (DASHO), or at an equivalent level of responsibility within their respective federal agencies, are preferred as management members. Labor nominees who are responsible for federal employee occupational safety and health matters within their respective labor organizations are preferred as labor members.

The information received through the nomination process, along with other relevant sources of information, will assist the Secretary in making appointments to FACOSH. In selecting FACOSH members, the Secretary will consider individuals nominated in response to this Federal Register notice, as well as other qualified individuals. OSHA will publish a list of the new FACOSH members in the Federal Register.

Public Participation

Instructions for submitting nominations. Interested individuals may submit nominations and supplemental materials using one of the methods listed in the ADDRESSES section. All nominations, attachments and other materials must identify the agency/labor organization name and the docket number for this Federal Register notice (Docket No. OSHA-2013-0013). You may supplement electronic nominations by uploading document files electronically. If, instead, you wish to submit additional materials in reference to an electronic or FAX submission, you must submit them to the OSHA Docket Office (see ADDRESSES section). The additional material must clearly identify your electronic or FAX submission by name and docket number (Docket No. OSHA-2013-0013) so that the materials can be attached to your submission.

Because of security-related procedures, the use of regular mail may cause a significant delay in the receipt of nominations. For information about security procedures concerning the delivery of materials by hand, express delivery, messenger or courier service, please contact the OSHA Docket Office (see ADDRESSES section).

All submissions in response to this Federal Register notice are posted without change at http://www.regulations.gov. Therefore, OSHA cautions interested parties about submitting personal information, such as Social Security numbers and birthdates. Guidance on submitting nominations and materials in response to this Federal Register notice is available at http://www.regulations.gov and from the OSHA Docket Office.

Access to docket and other materials. To read or download nominations and additional materials submitted in response to this Federal Register notice, go to Docket No. OSHA-2013-0013 at http://www.regulations.gov. All submissions are listed in the index of that docket. However, some documents (e.g., copyrighted material) are not publicly available to read or download through that Web page. All submissions, including copyrighted material, are available for inspection and copying at the OSHA Docket Office. Contact the OSHA Docket Office for information about materials not available through http://www.regulations.gov and for assistance in using the internet to locate submissions.

Electronic copies of this Federal Register notice are available at http://www.regulations.gov. This document, as well as news releases and other relevant information, also is available at OSHA's Web page at http://www.osha.gov.

Authority and Signature

David Michaels, Ph.D., MPH, Assistant Secretary of Labor for Occupational Safety and Health, directed the preparation of this notice under the authority granted by section 19 of the Occupational Safety and Health Act of 1970 (29 U.S.C. 668), 5 U.S.C. 7902, the Federal Advisory Committee Act (5 U.S.C. App. 2), Executive Order 12196 and 13511, Secretary of Labor's Order 1-2012 (77 FR 3912 (1/25/2012)), 29 CFR Part 1960 (Basic Program Elements of for Federal Employee Occupational Safety and Health Programs), and 41 CFR Part 102-3.

Signed at Washington, DC on August 30, 2013.
David Michaels,
Assistant Secretary of Labor for Occupational Safety and Health.

[FR Doc. 2013-21663 Filed 9-5-13; 8:45 am]

BILLING CODE 4510-26-P